SOCIAL SECURITY ADMINISTRATION

[Docket No. SSA-2011-0067]

Finding Regarding Foreign Social Insurance or Pension System—Bulgaria

AGENCY: Social Security Administration (SSA).

ACTION: Notice of finding regarding foreign social insurance or pension system—Bulgaria.

Finding: Section 202(t)(1) of the Social Security Act (42 U.S.C. 402(t)(1)) prohibits payment of monthly benefits to any individual who is not a United States citizen or national for any month after he or she has been outside the United States for 6 consecutive months. This prohibition does not apply to such an individual where one of the exceptions described in section 202(t)(2) through 202(t)(5) of the Social Security Act (42 U.S.C. 402(t)(2) through 402(t)(5)) affects his or her case.

Section 202(t)(2) of the Social Security Act provides that, subject to certain residency requirements of Section 202(t)(11), the prohibition against payment shall not apply to any individual who is a citizen of a country which the Commissioner of Social Security finds has in effect a social insurance or pension system which is of general application in such country and which:

(a) Pays periodic benefits, or the actuarial equivalent thereof, on account of old age, retirement, or death; and

(b) Permits individuals who are United States citizens but not citizens of that country and who qualify for such benefits to receive those benefits, or the actuarial equivalent thereof, while outside the foreign country regardless of the duration of the absence.

The Commissioner of Social Security has delegated the authority to make such a finding to the Associate Commissioner of the Office of International Programs. Under that authority, the Associate Commissioner of the Office of International Programs has approved a finding that Bulgaria, beginning January 1, 2000, has a social insurance system of general application which:

(a) Pays periodic benefits, or the actuarial equivalent thereof, on account of old age, retirement, or death; and

(b) Permits United States citizens who are not citizens of Bulgaria to receive such benefits, or their actuarial equivalent, at the full rate without qualification or restriction while outside Bulgaria.

Accordingly, it is hereby determined and found that Bulgaria has in effect, beginning January 1, 2000, a social insurance system which meets the requirements of section 202(t)(2) of the Social Security Act (42 U.S.C. 402(t)(2).

In 1982, it was determined that while Bulgaria continued to meet the requirements of section 202(t)(2)(A), it no longer met the requirements of section 202(t)(2)(B). The effective date of the determination was July 7, 1981. Notice of the decision appeared in the Federal Register August 4, 1982. Based on this decision, citizens of Bulgaria could not meet the exception provided under section 202(t)(2) of the Social Security Act, nor could they meet the limited exceptions under section 202(t)(4).

Bulgaria instituted a new social insurance law that entered into force on January 1, 2000. The law incorporates the social insurance system as a modified first pillar. It adds a second pillar of mandatory individual accounts and a third pillar of voluntary individual accounts. The Bulgarian social insurance system provides old age, disability, and survivor's benefits, as well as other types of social insurance. Information recently obtained from Bulgaria contains detailed information on the country's social insurance system and its provisions. This information required a new determination under the section 202(t)(2) provisions.

FOR FURTHER INFORMATION CONTACT: Donna Powers, 3700 Robert Ball Building, 6401 Security Boulevard, Baltimore, MD 21235-6401, (410) 965-3558.

(Catalog of Federal Domestic Assistance: Program Nos. 96.001 Social Security—Disability Insurance; 96.002 Social Security—Retirement Insurance; 96.004 Social Security—Survivors Insurance)

Diane K. Braunstein,
Associate Commissioner, Office of International Programs.

[FR Doc. 2011-20489 Filed 8-11-11; 8:45 am]

BILLING CODE 4191-02-P